DEPARTMENT OF STATE

[Public Notice 3304]

Amendment to Bureau of Educational and Cultural Affairs Request for Proposals: Small Grants Competition; Grassroots Citizen Participation in Democracy

SUMMARY: The Office of Citizen Exchanges, Bureau of Educational and Cultural Affairs of the U.S. Department of State announces the addition of Brazil to the Latin American geographic region for which proposals will be accepted.

The Small Grants Competition was announced on April 20, 2000 in the Federal Register (Volume 65, pg. 21061). The deadline for proposals is June 2, 2000.

ADDITIONAL INFORMATION: Interested organizations should contact Laverne Johnson, 202/619-5337; E-Mail ljohnson@usia.gov.

Dated: April 26, 2000.
Evelyn S. Lieberman,
Under Secretary for Public Diplomacy and Public Affairs, U.S. Department of State.

[FR Doc. 00-11023 Filed 5-2-00; 8:45 am]

BILLING CODE 4710-11-P